DEPARTMENT OF THE INTERIOR

National Park Service

DEPARTMENT OF TRANSPORTATION

Federal Aviation Administration

Notice of Meeting of the National Parks Overflights Advisory Group

ACTION: Notice of meeting.

SUMMARY: The National Park Service (NPS) and Federal Aviation Administration (FAA), in accordance with the National Parks Air Tour Management Act of 2000, announce the next meeting of the National Parks Overflight Advisory Group (NPOAG). The meeting will take place October 4-5, 2002, in Tusayan, Arizona. This notice informs the public of the dates, location, and agenda for the meeting.

DATES: The NPOAG will meet October 4-5, 2002, at the Best Western Grand Canyon Squire Inn, Highway 64, Tusayan, Arizona 86023 (telephone 1-800-622-6966). The meeting will begin at 8:00 a.m. on Friday, October 4, and end at approximately 3:00 p.m. October 5.

FOR FURTHER INFORMATION CONTACT: Barry Brayer, Manager, Executive Resource Staff, Western Pacific Region, Federal Aviation Administration, 15000 Aviation Blvd., Hawthorne, CA 90250, telephone: (310) 725-3800, or Barry.Brayer@faa.gov or Marvin Jensen, Soundscapes Office, National Park Service, 1201 Oak Ridge Drive, Suite 200, Ft. Collins, Colorado, 80525, telephone: (970) 225-3563, or Marv_Jensen@nps.gov

SUPPLEMENTARY INFORMATION:

Background

The National Parks Air Tour Management Act of 2000, enacted on April 5, 2000, as Public Law 106-181 (Pub. L. 106-181), required the establishment of a National Parks Overflights Advisory Group within 1 year after its enactment. The NPOAG was to be a balanced group representative of general aviation, commercial air tour operations, environmental concerns, and Indian tribes. The duties of the NPOAG included providing advice, information, and recommendations to the Director, NPS, and to the Administrator, FAA, on the implementation of Public Law 106-181, on quiet aircraft technology, on other measures that might accommodate interests to visitors to national parks, and, at the request of the Director and Administrator, on safety, environmental, and other issues related to commercial air tour operations over national parks or tribal lands.

On March 12, 2001, the FAA and NPS announced the establishment of the NPOAG (48 FR 14429). Current members of the NPOAG are Andy Cebula (general aviation), David Kennedy, Joe Currao, and Alan Stephens (commercial air tour operations), Chip Dennerlein, Charles Maynard, Boyd Evison, and Susan Gunn (environmental interests), and Germaine White and Richard Deertrack (Indian tribes).

The first meeting of the advisory group was held August 28-29, 2001, in Las Vegas, Nevada.

Agenda for the October 2002 Meeting

The meeting on October 5, 2002, will include a review of the status of documents pertaining to development of air tour management plans, discussion noise analysis, new development in quiet aircraft technology, issues of historical and cultural preservation in the national parks, and a review of plans for noise data collection in national parks in Hawaii. On Saturday, October 6, the NPOAG will visit a Grand Canyon air tour operator and possibly travel to the Grand Canyon rim to observe air tour overflights.

Attendance at the Meeting

Although this is not a public meeting, interested persons may attend. Because seating is limited, if you plan to attend, please contact one of the persons listed under FOR FURTHER INFORMATION CONTACT so that meeting space may accommodate your attendance.

Record of the Meeting

If you cannot attend the meeting, a summary record of the meeting will be made available by the Office of Rulemaking (ARM), 800 Independence Ave., SW., Washington, DC 20591. Contact is Linda Williams, (202) 267-9685, or linda.l.williams@faa.gov.

Issued in Washington, DC, on September 4, 2002.
Louis C. Cusimano,
Acting Director, Flight Standards Service.

[FR Doc. 02-22945 Filed 9-9-02; 8:45 am]

BILLING CODE 4910-13-M